DEPARTMENT OF DEFENSE

Office of the Secretary

Defense Advisory Committee on Military Personnel Testing; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the Defense Advisory Committee on Military Personnel Testing (DAC-MPT) will take place.

DATES: Day 1—Open to the public Wednesday, January 22, 2025 from 8:30 a.m. to 5:45 p.m., Mountain Time. Day 2—Open to the public Thursday, January 23, 2025, from 8:30 a.m. to 1:15 p.m., Mountain Time.

ADDRESSES: Venue to-be-determined (TBD). Meeting details will be posted on: https://dacmpt.com.

FOR FURTHER INFORMATION CONTACT: Designated Federal Officer (DFO), Dr. Sofiya Velgach, (703) 697-9271 (Voice), 703 614-9272 (Facsimile), osd.pentagon.ousd-p-r.mbx.dacmpt@mail.mil (Email). Mailing address is Designated Federal Officer, Accession Policy, Office of the Under Secretary of Defense for Personnel and Readiness, Room 3D1066, Defense Pentagon, Washington, DC 20301-4000. The most up-to-date changes to the meeting can be found on the website: https://dacmpt.com.

SUPPLEMENTARY INFORMATION: This meeting is being held under the provisions of chapter 10 of title 5, United States Code (U.S.C.) (commonly known as the “Federal Advisory Committee Act” or “FACA”); section 552b of title 5, U.S.C. (commonly known as the “Government in the Sunshine Act”); and 41 Code of Federal Regulations (CFR) 102-3.140 and 102-3.150.

Due to circumstances beyond the control of the Designated Federal Officer and the Department of Defense, the Defense Advisory Committee on Military Personnel Testing was unable to provide public notification required by 41 CFR 102-3.150(a) concerning changes to its previously noticed January 22-23, 2025 meetings. Accordingly, the Advisory Committee Management Officer for the Department of Defense, pursuant to 41 CFR 102-3.150(b), waives the 15-calendar day notification requirement.

Purpose of the Meeting: The purpose of the meetings is to provide an overview of the accession testing program: progress on Armed Services Vocational Aptitude Batter (ASVAB) form development, special purpose tests, calculator study, adverse impact analyses, and updates to the ASVAB Career Exploration Program. Additional information can be found at https://dacmpt.com.

Agenda

Day 1, Wednesday, January 22, 2025 (Mountain Time)

8:30 a.m.-8:45 a.m.: Welcome and Opening—Remarks Dr. Sofiya Velgach, (OASD(M&RA)/AP)

8:45 a.m.-9:15 a.m.: Accession Policy Brief—Dr. Katherine Helland (OASD(M&RA)/AP)

9:15 a.m.-10:00 a.m.: R&D Milestones Brief—Dr. Mary Pommerich (OPA/DTAC)

10:00 a.m.-10:15 a.m.: Break

10:15 a.m.-11:15 a.m.: Update on Committee Recommendations—Dr. Mary Pommerich (OPA/DTAC)

11:15 a.m.-12:15 p.m.: Update on P&P Forms—Dr. Jeff Dahlke (HumRRO)

12:15 p.m.-1:45 p.m.: Lunch

1:45 p.m.-2:45: p.m.: Form Equating Sampling Design—Dr. Jeff Dahlke (HumRRO)

2:45 p.m.-3:15 p.m.: Complex Reasoning Update—Dr. Kate Klein (HumRRO)

3:15 p.m.-3:45 p.m.: Computational Thinking Update—Dr. Kimberly Adams (HumRRO)

3:45 p.m.-4:00 p.m.: Break

4:00 p.m.-5:30 p.m.: Calculator Analyses Efforts

a. Calculator Impact Study—Dr. Kevin Bradley (HumRRO)

b. CAT Simulation—Dr. Glen Heinrich-Wallace (HumRRO)

c. Calculator Needs Assessment—Dr. Monica Gribben (HumRRO)

5:30 p.m.-5:45 p.m.: Public Comments

Day 2, Thursday, January 23, 2025 (Mountain Time)

8:30 a.m.-9:30 a.m.: Refinement of the Joint Service—TAPAS Instrument—Dr. Dan Putka (HumRRO)

9:30 a.m.-10:30 a.m.: Adverse Impact—Dr. Nick Howald (HumRRO)

10:30 a.m.-10:45 a.m.: Break

10:45 a.m.-11:30 a.m.: Curriculum Alignment Study ASVAB CEP—Dr. Rod McCloy (HumRRO)

11:30 a.m.-12:30 p.m.:

a. General—Dr. Irina Rader (OPA/DTAC)

b. Find Your Interest—Dr. Rod McCloy (HumRRO)

c. Work Values—Dr. Maura Burke (HumRRO)

12:30 p.m.-12:45 p.m.: Future Topics—Dr. Mary Pommerich (OPA/DTAC)

12:45 p.m.-1:00 p.m.: Public Comments

1:00 p.m.-1:15 p.m.: Closing Comments—Dr. Fred Oswald, Chair

1:15 p.m.-3:00 p.m.: Working Lunch (Administrative Items)

Abbreviations Key

ASVAB—Armed Services Vocational Aptitude Battery

ASVAB CEP—ASVAB Career Exploration Program, student testing program provided at no charge to high schools nation-wide to help students develop career exploration skills and used by recruiters to identify potential applicants for enlistment.

CAT—computerized adaptive testing

HumRRO—Human Resources Research Organization

OASD(M&RA)/AP—Office of the Assistant Secretary of Defense (Manpower and Reserve Affairs)/Accession Policy

OPA/DTAC—Office of People Analytics/Defense Testing and Assessment Center

P&P—paper and pencil

TAPAS—Tailored Adaptive Personality Assessment System

Latest version of the agenda will be posted on https://dacmpt.com.

Meeting Accessibility: Pursuant to 5 U.S.C. 552b and 41 CFR 102-3.140 through 102-3.165, and the availability of space, this meeting is open to the public. Seating availability is on a first-come, first-served basis. All members of the public who wish to attend the public meeting must contact the DFO no later than 12:00 p.m. on Friday, January 10, 2025, as listed in the FOR FURTHER INFORMATION CONTACT section.

Written Statements: Pursuant to 41 CFR 102-3.105(j) and 102-3.140 and section 10(a)(3) of the FACA, interested persons may submit written statements to the DAC-MPT at any time about its approved agenda or at any time on the DAC-MPT's mission. Written statements should be submitted to the DAC-MPT's DFO at the address or facsimile number listed in the FOR FURTHER INFORMATION CONTACT section. If statements pertain to a specific topic being discussed at the planned meeting, then these statements must be submitted no later than five (5) business days prior to the meeting in question. Written statements received after this date may not be provided to, or not considered by the DAC-MPT until its next meeting. The DFO will review all timely submitted written statements and provide copies to all the DAC-MPT members before the meeting that is the subject of this notice. Please note that since the DAC-MPT operates under the provisions of the FACA, all submitted comments and public presentations will be treated as public documents and will be made available for public inspection. Opportunity for public comments will be provided at the end of each day. Public comments will be limited to 5 minutes per person, as time allows.

Dated: January 6, 2025.
Aaron T. Siegel,
Alternate OSD Federal Register Liaison Officer, Department of Defense.

[FR Doc. 2025-00403 Filed 1-10-25; 8:45 am]

BILLING CODE 6001-FR-P